DEPARTMENT OF DEFENSE

Office of the Secretary

[Docket ID: DoD-2024-HA-0075]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by December 19, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Joint Outpatient Experience Surveys (JOES); OMB Control Number 0720-JOES.

Type of Request: New.

Number of Respondents: 310,000.

Responses per Respondent: 1.

Annual Responses: 310,000.

Average Burden per Response: 5.1354 minutes (specific JOES surveys range from 3-7 minutes per response).

Annual Burden Hours: 26,533.

Needs and Uses: The core objective of the JOES surveys is to systematically assess Military Health System (MHS) beneficiaries' perceptions of their outpatient care quality when received directly at Military Treatment Facilities (MTFs) and through civilian network providers reimbursed by the MHS. Data insights guide efforts to optimize care delivery across the MHS. The JOES survey suite leverages industry best practices to regularly measure patient satisfaction across the facets of outpatient care. Data-driven insights from this comprehensive assessment inform systematic quality improvement efforts for healthcare delivery optimization across the MHS. Joint Outpatient Experience Survey (JOES) instruments include: JOES, JOES-CAHPS, JOES-Dental, JOES-Ambulatory, JOES Walk-in Contraceptive Clinic, and JOES-Emergency Department. The JOES-CAHPS surveys adhere to industry protocols outlined by the Clinician & Group Consumer Assessment of Healthcare Providers and Systems (CG-CAHPS) for measuring patient satisfaction.

Affected Public: Individuals or households.

Frequency: On occasion.

Respondent's Obligation: Voluntary.

OMB Desk Officer: Mr. Matt Eliseo.

DoD Clearance Officer: Mr. Reginald Lucas.

Dated: November 13, 2024.
Aaron T. Siegel,
Alternate OSD Federal Register Liaison Officer, Department of Defense.

[FR Doc. 2024-26864 Filed 11-18-24; 8:45 am]

BILLING CODE 6001-FR-P